DEPARTMENT OF THE INTERIOR

Bureau of Land Management

[NV-050-1020-001]

Mojave-Southern Great Basin Resource Advisory Council; Notice of Meeting Locations and Times

May 5, 2000.

AGENCY: Bureau of Land Management, Interior.

ACTION: Resource Advisory Council meeting locations and times.

DATES: May 18 and 19, 2000.

TIMES: 8 a.m. to 4:30 p.m. each day.

ADDRESSES: Beatty, Nevada Community Center, Knight Ave. and Watson St.

FOR FURTHER INFORMATION CONTACT: Phillip L. Guerrero, Las Vegas Field Office, Public Affairs Officer, telephone: (702) 647-5046.

SUMMARY: In accordance with the Federal Land Policy and Management Act and the Federal Advisory Committee Act of 1972 (FACA), 5 U.S.C., the Department of the Interior, Bureau of Land Management (BLM), council meeting of the Mojave-Southern Great Basin Resource Advisory Council (RAC) will be held as indicated above. The agenda includes a public comment period, and discussion of public land issues.

The Resource Advisory Council develops recommendations for BLM regarding the preparation, amendment, and implementation of land use plans for the public lands and resources within the jurisdiction of the council. For the Mojave-Great Basin RAC this jurisdiction is Clark, Esmeralda, Lincoln and Nye counties in Nevada. Except for the purposes of long-range planning and the establishment of resource management priorities, the RAC shall not provide advice on the allocation and expenditure of Federal funds, or on personnel issues.

The RAC may develop recommendation for implementation of ecosystem management concepts, principles and programs, and assist the BLM to establish landscape goals and objectives.

All meetings are open to the public. The public may present written comments to the council. Public comments should be limited to issues for which the RAC may make recommendations within its area of jurisdiction. Depending on the number of persons wishing to comment, and time available, the time for individual oral comments may be limited. Individuals who plan to attend and need further information about the meetings, or need special assistance such as sign language interpretation or other reasonable accommodations, should contact Phillip L. Guerrero at the Las Vegas District Office, 4765 Vegas Dr., Las Vegas, NY 89108, telephone, (702) 647-5000.

Dated: May 5, 2000.
Phillip L. Guerrero,
Public Affairs Officer.

[FR Doc. 00-12197 Filed 5-15-00; 8:45 am]

BILLING CODE 4310-HC-M